DEPARTMENT OF ENERGY

Federal Energy Regulatory Commission

[Docket No. CP08-13-000]

Floridian Natural Gas Storage Company, LLC; Notice of Availability of the Final Environmental Impact Statement for the Floridian Natural Gas Storage Project

July 11, 2008.

The staff of the Federal Energy Regulatory Commission (FERC or Commission) has prepared this Final Environmental Impact Statement (EIS) for the natural gas facilities proposed by the Floridian Natural Gas Storage Company, LLC (FGS) under the above-referenced docket. FGS's proposed Floridian Natural Gas Storage Project (Project) would be located approximately two miles north of the unincorporated municipality of Indiantown in Martin County, Florida.

The Final EIS was prepared to satisfy the requirements of the National Environmental Policy Act. The FERC staff concludes that the proposed Project, with the appropriate mitigation measures as recommended, would have limited adverse environmental impact.

The U.S. Army Corps of Engineers, the U.S. Environmental Protection Agency, and the U.S. Fish and Wildlife Service are cooperating agencies for the development of this EIS. A cooperating agency has jurisdiction by law or special expertise with respect to any environmental impact involved with the proposal and is involved in the NEPA analysis.

The general purpose of the proposed Project is to respond to the growing demand for natural gas and natural gas infrastructure in the United States, and, more specifically, in Florida. The Project would enhance access to additional, competitively-priced supplies of natural gas by providing liquefaction, storage, and vaporization services to customers in Florida and the southeastern United States.

The Final EIS addresses the potential environmental effects of construction and operation of the facilities listed below. FGS proposes to construct and operate:

• An approximately 53.1 acre liquefied natural gas storage facility;

• An approximately 4-mile-long, 12-inch-diameter receiving pipeline to interconnect with and receive natural gas from the Gulfstream and/or Florida Power & Light (FPL) lateral pipelines;

• An approximately 4-mile-long, 24-inch-diameter sendout pipeline that would parallel the 12-inch pipeline and interconnect with and deliver natural gas from the storage facility to the Gulfstream and the FPL lateral pipelines;

• Interconnection points with the Gulfstream pipeline at milepost (MP) 4.18 and with the FPL lateral at MP 4.05; and

• A metering and regulating station.

FGS proposes to have the facilities installed and operational within 36 months of commencing construction; however, based on market conditions at the time of construction, the storage facility construction may be separated into two phases.

The Final EIS has been placed in the public files of the FERC and is available for public inspection at: Federal Energy Regulatory Commission, Public Reference Room, 888 First Street NE., Room 2A, Washington, DC 20426, (202) 502-8371.

CD-ROM copies of the Final EIS have been mailed to federal, state, and local agencies; public interest groups; individuals and affected landowners who requested a copy of the Final EIS or provided comments during scoping; libraries and newspapers in the Project area; and parties to this proceeding. Hard copy versions of the Final EIS were mailed to those specifically requesting them. A limited number of hard copies and CD-ROMs are available from the Public Reference Room identified above.

In accordance with the Council on Environmental Quality's regulations implementing NEPA, no agency decision on a proposed action may be made until 30 days after the EPA publishes a notice of availability of a Final EIS.

Additional information about the project is available from the Commission's Office of External Affairs, at 1-866-208-FERC (3372) or on the FERC Internet Web site (http://www.ferc.gov). Using the “eLibrary link,” select “General Search” and enter the project docket number excluding the last three digits (i.e., CP08-13) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

It is requested that you communicate the foregoing information concerning the proposed work to any persons known by you to be interested and not being known to this office, who did not receive a copy of this notice.

Kimberly D. Bose,
Secretary.

[FR Doc. E8-16705 Filed 7-21-08; 8:45 am]

BILLING CODE 6717-01-P